DEPARTMENT OF ENERGY

Federal Energy Regulatory Commission

[Docket No. RP00-327-002]

Columbia Gas Transmission Corporation; Notice of Compliance Filing

August 8, 2001.

Take notice that on July 31, 2001, Columbia Gas Transmission Corporation (Columbia) tendered for filing as part of its FERC Gas Tariff, Second Revised Volume No. 1, revised pro forma tariff sheets, listed in Appendix A to the filing, in compliance with Order Nos. 637 and 637-A.

Columbia states that the filing is made to revise various pro forma tariff sheets filed in Docket No. RP00-327-000 on June 15, 2000 in compliance with Order No. 637 et al., and to make other revisions to tariff sheets that were not included in the June 15, 2000 filing.

Columbia states that copies of its filing have been mailed to all firm customers, interruptible customers, parties on the official service list in this proceeding, and affected state commissions.

Pursuant to customer requests and the procedures established by the Commission for Order No. 637 compliance filings, interested parties will have thirty days within which to submit comments regarding this filing. Columbia Gas has 20 days to respond to any comments received in response to this filing. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20343 Filed 8-13-01; 8:45 am]

BILLING CODE 6717-01-P